DEPARTMENT OF EDUCATION

[Docket No.: ED-2023-SCC-0095]

Agency Information Collection Activities; Comment Request; Evaluation of the REL Midwest Teaching Fractions Toolkit

AGENCY: Institute of Education Sciences (IES), Department of Education (ED).

ACTION: Notice.

SUMMARY: In accordance with the Paperwork Reduction Act (PRA) of 1995, the Department is proposing a new information collection request (ICR).

DATES: Interested persons are invited to submit comments on or before July 31, 2023.

ADDRESSES: To access and review all the documents related to the information collection listed in this notice, please use https://www.regulations.gov by searching the Docket ID number ED-2023-SCC-0095. Comments submitted in response to this notice should be submitted electronically through the Federal eRulemaking Portal at https://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Felicia Sanders, (202) 245-6264.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the REL Midwest Teaching Fractions Toolkit.

OMB Control Number: 1850-NEW.

Type of Review: New ICR.

Respondents/Affected Public: Individuals or Households.

Total Estimated Number of Annual Responses: 206.

Total Estimated Number of Annual Burden Hours: 187.

Abstract: The U.S. Department of Education is supporting the development and evaluation of a toolkit that supports the implementation of effective grade 6 fractions instruction based on the evidence-based recommendations in the Developing Effective Fractions Instruction for Kindergarten Through 8th Grade practice guide. The evaluation will rigorously test the efficacy of the toolkit in improving teacher self-efficacy and practices for fraction computation and rate and ratio instruction as well as student learning outcomes in grade 6 mathematics. The evaluation will use a blocked randomized controlled trial design in which schools within each district or within each block of similar schools will be randomly assigned to receive the toolkit. The evaluation will be conducted in 40 Illinois schools during the 2024/25 school year.

The evaluation will focus on measuring the toolkit's impact on three key outcomes: teacher self-efficacy for fraction computation and rate and ratio instruction, classroom practice for fraction computation and rate and ratio instruction, and students' ability to solve fraction computation and rate and ratio problems.

In addition to collecting data to measure teacher and student outcomes, the evaluation team will collect data to document the implementation of the toolkit in treatment schools and the service contrast between treatment and control schools and to describe the characteristics of participating schools, teachers, and students at baseline.

The evaluation will produce a publicly available report that summarizes evaluation findings. The findings from the evaluation will inform further refinement of the toolkit, to be released to the public after the evaluation.

Dated: May 24, 2023.
Juliana Pearson,
PRA Coordinator, Strategic Collections and Clearance Governance and Strategy Division, Office of Chief Data Officer, Office of Planning, Evaluation and Policy Development.

[FR Doc. 2023-11432 Filed 5-26-23; 8:45 am]

BILLING CODE 4000-01-P